ENVIRONMENTAL PROTECTION AGENCY

[FRL-9152-7]

Science Advisory Board Staff Office; Notification of a Public Teleconference and Public Meeting of the SAB Polycyclic Aromatic Hydrocarbon (PAH) Mixtures Review Panel

AGENCY: Environmental Protection Agency (EPA).

ACTION: Notice.

SUMMARY: The EPA Science Advisory Board (SAB) Staff Office announces two public meetings of the SAB Polycyclic Aromatic Hydrocarbon (PAH) Mixtures Review Panel: A teleconference and a face-to-face meeting to review EPA's draft technical document, Development of a Relative Potency Factor (RPF) Approach for Polycyclic Aromatic Hydrocarbon (PAH) Mixtures, External Review Draft.

DATES: There will be a public teleconference on June 8, 2010 from 2 p.m. to 4 p.m. (Eastern Time). The public meeting will be held on June 21, 2010 from 9 a.m. to 5 p.m. (Eastern Time), June 22, 2010 from 9 a.m. to 5 p.m. and June 23, 2010 from 9 a.m. to 3 p.m. (Eastern time).

ADDRESSES: The teleconference will be conducted by phone only. The face-to-face meeting on June 21-23, 2010 will be held at the Washington Marriott at Metro Center, 775 12th Street, NW., Washington, DC 20005; telephone (202) 737-2200.

FOR FURTHER INFORMATION CONTACT: Any member of the public wishing to obtain information concerning the public teleconference and/or public meeting may contact Mr. Aaron Yeow, Designated Federal Officer (DFO), EPA Science Advisory Board Staff Office (1400F), U.S. Environmental Protection Agency, 1200 Pennsylvania Avenue, NW., Washington, DC 20460; by telephone/voice mail at (202) 343-9878 or at yeow.aaron@epa.gov. General information about the SAB, as well as any updates concerning the meeting announced in this notice, may be found on the EPA Web site at http://www.epa.gov/sab.

SUPPLEMENTARY INFORMATION: Pursuant to the Federal Advisory Committee Act (FACA), 5 U.S.C., App. 2, notice is hereby given that the SAB PAH Mixtures Review Panel will hold a public teleconference to discuss the plans for the subsequent public face-to-face meeting to conduct a peer review of the EPA's draft technical document, Development of a Relative Potency Factor (RPF) Approach for Polycyclic Aromatic Hydrocarbon (PAH) Mixtures, External Review Draft (February 2010). The SAB was established pursuant to 42 U.S.C. 4365 to provide independent scientific and technical advice to the Administrator on the technical basis for Agency positions and regulations.

The SAB is a Federal Advisory Committee chartered under FACA. The SAB will comply with the provisions of FACA and all appropriate SAB Staff Office procedural policies.

Background: EPA's Integrated Risk Information System (IRIS) is an electronic database containing descriptive and quantitative toxicological information on human health effects that may result from chronic exposure to various substances in the environment. This information supports human health risk assessments and includes hazard identification and dose-response data and derivations of oral reference doses (RfDs) and inhalation reference concentrations (RfCs) for noncancer effects and oral slope factors and oral and inhalation unit risks for cancer effects. IRIS is prepared and maintained by EPA's National Center for Environmental Assessment (NCEA) within the Office of Research and Development (ORD). NCEA's IRIS Program has developed a draft technical document entitled, Development of a Relative Potency Factor (RPF) Approach for Polycyclic Aromatic Hydrocarbon (PAH) Mixtures, for estimating cancer risk from exposure to PAH mixtures. ORD has requested that the Science Advisory Board (SAB) conduct a review of this draft document.

In response to ORD's request, the SAB Staff Office solicited nominations of experts and formed a review panel for PAH Mixtures [Federal Register Notice dated October 21, 2009 (74 FR 54047-54048)]. The panel will conduct a review of EPA's February 2010 External Review Draft of its technical document, Development of a Relative Potency Factor (RPF) Approach for Polycyclic Aromatic Hydrocarbon (PAH) Mixtures. Specifically, the panel is being asked to provide recommendations on the rationale for recommending an RPF approach, the evaluation of the carcinogenicity of individual PAHs, the methods for dose response assessment and RPF calculation, the selection of PAHs to include in the RPF approach, the derivation of RPFs for selected PAHs, and the uncertainties and limitations associated with the RPF approach. The purpose of the teleconference is for the panel to receive a briefing on the draft technical document and for members to clarify the charge to the panel. During the face-to-face meeting, the panel will review the technical document.

Availability of Meeting Materials: Agendas and materials in support of these meetings will be placed on the EPA Web site at http://www.epa.gov/sab in advance of each meeting. For technical questions and information concerning EPA's draft document, please contact Dr. Lynn Flowers at (703) 347-8537, or flowers.lynn@epa.gov.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. They should send their comments directly to the Designated Federal Officer for the relevant advisory committee. Oral Statements: In general, individuals or groups requesting an oral presentation at a public teleconference will be limited to three minutes per speaker, with no more than a total of 30 minutes for all speakers. At the face-to-face meeting, presentations will be limited to five minutes, with no more than a total of one hour for all speakers. Each person making an oral statement should consider providing written comments as well as their oral statement so that the points presented orally can be expanded upon in writing. Interested parties should contact Mr. Aaron Yeow, DFO, in writing (preferably via e-mail) at the contact information noted above by June 1, 2010 for the teleconference and by June 14, 2010 for the face-to-face meeting, to be placed on the list of public speakers. Written Statements: Written statements should be supplied to the DFO via email at the contact information noted above by June 1, 2010 for the teleconference and by June 14, 2010 for the face-to-face meeting so that the information may be made available to the Committee members for their consideration. Written statements should be supplied in one of the following electronic formats: Adobe Acrobat PDF, MS Word, MS PowerPoint, or Rich Text files in IBM-PC/Windows 98/2000/XP format. Submitters are requested to provide versions of signed documents, submitted with and without signatures, because the SAB Staff Office does not publish documents with signatures on its Web sites.

Accessibility: For information on access or services for individuals with disabilities, please contact Mr. Aaron Yeow at (202) 343-9878 or yeow.aaron@epa.gov. To request accommodation of a disability, please contact Mr. Yeow preferably at least ten days prior to each meeting to give EPA as much time as possible to process your request.

Dated: May 12, 2010.
Anthony F. Maciorowski,
Deputy Director, EPA Science Advisory Staff Office.

[FR Doc. 2010-11830 Filed 5-17-10; 8:45 am]

BILLING CODE 6560-50-P